DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: July 23, 2012, 8:30 a.m.-5:00 p.m.

July 24, 2012, 8:00 a.m.-4:00 p.m.

Place: Hilton Washington DC/Rockville, Executive Meeting Center, 1750 Rockville Pike, Rockville, MD 20852.

Status: The meeting will be open to the public.

Purpose: The Council on Graduate Medical Education (the Council), created in 1986, is authorized by section 762 of the Public Health Service Act, as amended by section 5103 of the Affordable Care Act.

The Council provides advice and recommendations to the Secretary of Health and Human Services and to Congress on a range of issues including the supply and distribution of physicians in the United States, current and future physician shortages or excesses, issues relating to foreign medical school graduates, the nature and financing of medical education training, and the development of performance measures and longitudinal evaluation of medical education programs.

At this meeting, the Council will work on its 21st report to Congress on restructuring graduate medical education. Reports are submitted to the Secretary of the Department of Health and Human Services; the Committee on Health, Education, Labor and Pensions of the Senate; and the Committee on Energy and Commerce of the House of Representatives. Some meeting time will be allotted to discuss performance measures and longitudinal evaluation of grant programs over which the Council has legislative authority.

Agenda: The meeting on Monday, July 23, 2012, will begin with opening comments from HRSA senior officials. Next, elections will take place for a chair and vice chair of the Council. The main agenda item will be a discussion of issues relating to the 21st report on restructuring graduate medical education, with a focus on population need and fiscal constraint. Discussion topics include graduate medical education as a public good, new approaches to increasing residency positions, newer structural models for graduate medical education, evaluation of teaching programs especially in terms of meeting community needs, and a re-examination of funding mechanisms and priorities. At the end of the morning session, current and new members will receive ethics training in a session closed to the public. The afternoon session will be devoted to the development of report recommendations.

The meeting on Tuesday, July 24, 2012, will begin with an update and an opportunity to comment on HRSA's Bureau of Health Professions' development of performance measures and methods of longitudinal evaluation specific to the training programs over which the Council has been given new authority under the Affordable Care Act. Much of the agenda will be allotted to small groups working in closed session and then reporting back to the full Council. The Council will plan for a fall meeting, using a webinar format, and determine report work to be done in the interim. Both meeting days will conclude with time for public comment.

For Further Information Contact: For further information regarding the Council, to obtain a roster of members, minutes of the meeting, or other relevant information, contact Jerilyn K. Glass, M.D., Ph.D., Division of Medicine and Dentistry, Bureau of Health Professions, Health Resources and Services Administration, Room 9A-27, Parklawn Building, 5600 Fishers Lane, Rockville, Maryland 20857, Telephone (301) 443-7271. Information can also be found at the following Web site: http://www.hrsa.gov/advisorycommittees/bhpradvisory/cogme/index.html.

Dated: June 20, 2012
Reva Harris,
Acting Director, Division of Policy and Information Coordination.

[FR Doc. 2012-15453 Filed 6-25-12; 8:45 am]

BILLING CODE 4165-15-P